DEPARTMENT OF TRANSPORTATION

Office of the Secretary

Notice of Applications for Certificates of Public Convenience and Necessity and Foreign Air Carrier Permits Filed Under Subpart Q During the Week Ending February 16, 2001

The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1995-370.

Date Filed: February 12, 2001.

Due Date for Answers, Conforming Applications, or Motion to Modify Scope: March 5, 2001.

Description: Application of United Air Lines, Inc., pursuant to 49 U.S.C. 41101, 14 CFR Parts 201 and 302, subpart B, applies for renewal of its certificate of public convenience and necessity for Route 703, which authorizes United to engage in scheduled foreign air transportation of persons, property and mail between the terminal point Miami, Florida, and the terminal point Lima, Peru.

Dorothy Y. Beard,
Federal Register Liaison.

[FR Doc. 01-5749 Filed 3-7-01; 8:45 am]

BILLING CODE 4910-62-P